DEPARTMENT OF TRANSPORTATION

Federal Railroad Administration

[Docket Number FRA-2000-7137]

Petition for Waiver of Compliance

Under part 211 of title 49 Code of Federal Regulations (CFR), this document provides the public notice that on December 21, 2020, San Diego Trolley Incorporated (SDTI) petitioned the Federal Railroad Administration (FRA) to renew a waiver of compliance from certain provisions of the Federal railroad safety regulations contained at various parts of 49 CFR. FRA assigned the petition Docket Number FRA-2000-7137.

Specifically, SDTI seeks a five-year extension of its existing waiver of compliance with modifications. The waiver applies to certain portions of SDTI's rail fixed guideway urban transit operations which employ temporal separation to safely share track with the general railroad system's San Diego & Imperial Valley Railroad (SDIV). Contiguous to the shared trackage are portions with limited connections to the general railroad system, which include a small shared corridor with BNSF Railway and Coaster commuter train service, which also shares a storage yard with SDTI. FRA granted SDTI its initial waiver on January 19, 2001, and the most recent update to the waiver was FRA's May 1, 2020, approval of SDTI's new absolute block arrangement on its Blue Line.

In this petition, SDTI seeks an extension of its relief from the following parts and sections in 49 CFR: part 217, Railroad Operating Rules (except for 217.9(d)); 218.27(a), Workers on track other than main track (as granted in part and denied in part in FRA's January 19, 2001, letter); part 219, Control of Alcohol and Drug Use; part 220, Railroad Communications (as granted in part in FRA's January 19, 2001, letter); part 221, Rear End Marking Device—Passenger, Commuter and Freight Trains; 223.9(c), Requirements for new or rebuilt equipment and 223.15(c), Requirements for existing passenger cars; part 225, Railroad Accidents/Incidents: Reports Classification, and Investigations (for employee injuries only); part 228, subpart F, Substantive Hours of Service Requirements for Train Employees Engaged in Commuter or Intercity Rail Passenger Transportation, and relevant recordkeeping sections of subpart B, Records and Reporting; the following sections of part 229, Railroad Locomotive Safety Standards: 229.46-229.59, 229.61, 229.65, 229.71, 229.77, 229.125, and 229.135; 231.14, Passenger-train cars without end platforms; the following sections of part 238, Passenger Equipment Safety Standards: 238.112, 238.113, 238.114, 238.115(b)(4), 238.203, 238.205, 238.207, 238.209, 238.211, 238.213, 238.215, 238.217, 238.219, 238.231, 238.233, 238.237, and part 238, subpart D in its entirety, sections 238.301 through 238.319; part 239, Passenger Train Emergency Preparedness; part 240, Locomotive Engineer Certification; and part 242, Qualification and Certification of Conductors.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal Holidays.

Communications received by February 22, 2021 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety Chief Safety Officer.

[FR Doc. 2021-00141 Filed 1-7-21; 8:45 am]

BILLING CODE 4910-06-P